DEPARTMENT OF AGRICULTURE

Food and Nutrition Service

Agency Information Collection Activities: Proposed Collection; Comment Request—Analysis of the Summer Food Service Program and Food Needs of Nonparticipating Children—Data Collection Instruments

AGENCY: Food and Nutrition Service, USDA.

ACTION: Notice.

SUMMARY: In accordance with the Paperwork Reduction Act of 1995, this notice announces the Food and Nutrition Service's intention to request Office of Management and Budget approval of the data collection instruments for the Analysis of the Summer Food Service Program and Food Needs of Nonparticipating Children.

DATES: Written comments on this notice must be received by March 23, 2004.

ADDRESSES: Comments may be sent to: Alberta C. Frost, Director, Office of Analysis, Nutrition and Evaluation, Food and Nutrition Service, U.S. Department of Agriculture, 3101 Park Center Drive, Alexandria, VA 22302.

Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of collection of information on those who are to respond, including through the use of appropriate automated, electronic, mechanical or other technological collection techniques or other forms of information technology.

All responses to this notice will be summarized and included in the request for Office of Management and Budget (OMB) approval. All comments will also become a matter of public record.

FOR FURTHER INFORMATION CONTACT: Requests for additional information or copies of the proposed information collection instruments should be directed to Alberta C. Frost (703) 305-2117.

SUPPLEMENTARY INFORMATION: Title: Analysis of the Summer Food Service Program and Food Needs of Nonparticipating Children—Data Collection Instruments.

OMB Number: Not yet assigned.

Expiration Date: N/A.

Type of Request: New collection of information.

Abstract: Section 13 of the Richard B. Russell National School Lunch Act (NSLA), 42 U.S.C. 1761, authorizes the Summer Food Service Program. The Summer Food Service Program (SFSP) provides assistance to States to initiate and maintain nonprofit food service programs for children in needy areas during the summer months and at other approved times. The food service to be provided under the Summer Food Service Program is intended to serve as a substitute for the National School Lunch Program and the School Breakfast Program during the times when school is not in session. During the regular school year, the federally funded National School Lunch Program makes available nutritious meals to children attending elementary, middle and high schools. Children, who could not otherwise afford to pay full price, are able to receive their lunch for free or at a reduced price, depending on the economic status of their household. Breakfasts are also made available in most school districts during the school year to provide nutritious meals to children.

When school lets out for the summer, children from low-income areas can potentially participate in the SFSP. Meals available through the SFSP are often offered through various educational and recreational activities, including camps, sports and art/craft activities. The primary goal of SFSP is to provide nutritious meals to children in low-income areas when school is not in session during the summer. The summer food program for children operates in all 50 states, the District of Columbia, the Virgin Islands, and Puerto Rico. However, the number of children in the SFSP served in July 2001 (2.1 million per day) was only about 14 percent of the children who receive free or reduced-priced school lunches during the previous, regular school year.

The Food and Nutrition Service has a need for information on households' awareness of SFSP sites in their local communities, reasons why their children do not participate, and perceptions of food adequacy for their children during the summer compared to the regular school year. Telephone and in-depth personal interviews are to be conducted in English and Spanish, as needed, with an ethnic and racially diverse sample of parents/guardians of children in low-income areas who receive free and reduced lunches during the school year but who do not participate in the SFSP. Additional interviews will also be conducted for comparison purposes with the parents/guardians of qualifying children who do participate in the summer food program for children. The interviews will be held in four sites around the United States.

Respondents: Parents/guardians of children in low-income areas who qualify for free or reduced price lunches during the regular school year and who do not participate in the SFSP, as well as parents/guardians of children that do participate in SFSP.

Estimated Number of Respondents: A telephone screener survey will be administered to an estimated 400 households. Based on information obtained from the screener survey, 50 households will complete an extended telephone interview (40 households with elementary-grade children who did not participate in the SFSP and 10 households with children who did participate in SFSP) in each of the four sites for a total of 200 extended telephone interviews. Twenty-five in-person interviews will be conducted among the 50 households completing telephone interviews in each of the four sites for a total of 100 in-person interviews.

Estimated number of responses per Respondent: One response for the 100 households completing only the telephone interview, two responses for the 100 households who complete the telephone and the in-person interviews.

Estimate of Burden: Public reporting burden for parents/guardians is estimated to be 10 minutes for completing the telephone screener and 20 minutes for completing additional questions in the extended telephone interview. The in-person interview will require 30 minutes.

Estimate Total Annual Burden on Respondents: 183.4 hours.

Screener interview = 400 households × 10 minutes = 66.7 hours; extended telephone interview = 200 households × 20 minutes = 66.7 hours; in-person interview with respondents who have already completed the screener and the telephone survey = 100 households × 30 minutes = 50 hours.

Dated: January 16, 2004.
Roberto Salazar,
Administrator, Food and Nutrition Service.

[FR Doc. 04-1405 Filed 1-22-04; 8:45 am]

BILLING CODE 3410-30-P